DEPARTMENT OF HEALTH AND HUMAN SERVICES

Centers for Disease Control and Prevention

Disease, Disability, and Injury Prevention and Control Special Emphasis Panel (SEP): Cooperative Agreements for Prevention Research Centers, Program Announcement 98047

In accordance with section 10(a)(2) of the Federal Advisory Committee Act (Pub. L. 92-463), the Centers for Disease Control and Prevention (CDC) announces the following meeting.

Name: Disease, Disability, and Injury Prevention and Control Special Emphasis Panel (SEP): Cooperative Agreements for Prevention Research Centers, Program Announcement 98047, meeting.

Times and Dates: 2 p.m.—2:30 p.m., June 25, 2001 (Open). 2:30 p.m.—4 p.m., June 25, 2001 (Closed).

Place: This above portion of this meeting will be held via teleconference. The teleconference call will originate in the National Center for Chronic Disease Prevention and Health Promotion, Prevention Research Centers Program, Koger Center, Rhodes Building, 3005 Chamblee Tucker Rd., Atlanta, Ga 30341. Open access to the call will be available from 2—2:30 p.m. EDT, only. Interested parties may access the teleconference at 800/811-2539. The participant code is 989951.

Status: Portions of the meeting will be closed to the public in accordance with provisions set forth in section 552b(c)(4) and (6), Title 5 U.S.C., and the Determination of the Deputy Director for Program Management, CDC, pursuant to Public Law 92-463.

Matters to be Discussed: The teleconference meeting will concern the review, discussion, and evaluation of supplemental award applications received in response to Program Announcement #98047.

Times and Dates: 8:30 a.m.—9 a.m., June 26, 2001 (Open). 9 a.m.—5 p.m., June 26, 2001 (Closed). 8 a.m.—5 p.m., June 27, 2001 (Closed).

Place: Crowne Plaza Airport Hotel, 1325 Virginia Ave, Atlanta, GA 30344.

Status: Portions of the meeting will be closed to the public in accordance with provisions set forth in section 552b(c)(4) and (6), Title 5 U.S.C., and the Determination of the Deputy Director for Program Management, CDC, pursuant to Public Law 92-463.

Matters to be Discussed: The meeting will include the review, discussion, and evaluation of supplemental award applications received in response to Program Announcement #98047.

Contact Person For More Information: Mike Waller, Deputy Branch Chief, Healthcare and Aging Studies Branch, Centers for Disease Control and Prevention, National Center for Chronic Disease Prevention and Health Promotion, 4770 Buford Highway, m/s K45, Atlanta, GA., 30341. Telephone 770/488-5264, email mnw1@cdc.gov.

The Director, Management Analysis and Services office has been delegated the authority to sign Federal Register notices pertaining to announcements of meetings and other committee management activities, for both the Centers for Disease Control and Prevention and the Agency for Toxic Substances and Disease Registry.

Dated: May 30, 2001.
Carolyn J. Russell,
Director, Management Analysis and Services Office, CDC.

[FR Doc. 01-14719 Filed 6-11-01; 8:45 am]

BILLING CODE 4163-18-P